Title 3—

The President

Proclamation 9988 of February 28, 2020

American Red Cross Month, 2020

By the President of the United States of America

A Proclamation

For 139 years, the American Red Cross has provided comfort and support services to ease suffering before, during, and after emergencies in the United States and around the world. The American Red Cross provides shelter, care, and compassion in response to more than 60,000 disasters a year. It also supplies about 40 percent of our Nation's blood products; teaches skills that save lives; supports our military, veterans, and their families; and provides international humanitarian aid to countries in need. During American Red Cross Month, we thank and honor the selfless volunteers, dedicated employees, and generous supporters who invest their time, talent, and resources to provide compassionate outreach and assistance to so many.

Each year, American Red Cross workers and trained volunteers respond to a wide range of emergencies, from natural disasters that destroy entire communities to home fires that displace individual families. In response to last year's devastating hurricanes, wildfires, storms, floods, and earthquakes, the American Red Cross and its partners opened and supported emergency shelters for more than 300 days. During these and other crises, nearly 9,000 American Red Cross workers—90 percent of whom are volunteers—left their homes to work in affected areas, providing refuge, food, relief items, emotional support, recovery planning, and significant assistance to vulnerable families in their darkest hours and times of need. In 2019 alone, the American Red Cross also supported responses to 17 international disasters and humanitarian crises as a key part of the world's largest humanitarian network.

Clara Barton, a pioneering nurse from Massachusetts, founded the American Red Cross out of a desire to continue providing help and supplies to people in need following the Civil War. Her words, “I may be compelled to face danger, but never fear it, and while our Soldiers can stand and fight, I can stand and feed and nurse them,” echo today in the continued dedication of the American Red Cross to our service members, veterans, and their families. Today, the American Red Cross Hero Care Network provides critical and confidential services to our Armed Forces worldwide through local, State, and national resources. Last year, Hero Care Network provided more than 355,000 emergency communication services to nearly 100,000 deployed military members and their families. It is also the largest provider of free professional volunteer services to recovering wounded warriors and their families in military treatment facilities and hospitals. This network is dedicated to supporting programs and services that aid families as they navigate the demands of military life.

Across our great country, about 2,500 hospitals and other facilities depend on volunteer blood donors to meet the critical needs of patients. Each year, on average, the American Red Cross collects more than 4.6 million blood donations and nearly 1 million platelet donations from more than 2.6 million volunteers. In 2019, donations of more than 6.4 million blood products helped save and improve the lives of people of all ages, including accident victims, mothers giving birth, surgery patients, and those battling cancer and other life-threatening or altering conditions.

Every day, the American Red Cross serves people throughout the United States and around the world. Its lifesaving mission and the indelible mark it leaves around the world are possible only because of the devotion of volunteers, the generosity of donors, and the partnership of community organizations. Together, they bring critical hope, help, and healing in times of crisis, despair, and devastation.

NOW, THEREFORE, I, DONALD J. TRUMP, President of the United States of America and Honorary Chairman of the American Red Cross, by virtue of the authority vested in me by the Constitution and the laws of the United States, do hereby proclaim March 2020 as American Red Cross Month. I encourage all Americans to observe this month with appropriate programs, ceremonies, and activities, and to support the work of the American Red Cross and their local chapters.

IN WITNESS WHEREOF, I have hereunto set my hand this twenty-eighth day of February, in the year of our Lord two thousand twenty, and of the Independence of the United States of America the two hundred and forty-fourth.

[FR Doc. 2020-04544

Filed 3-3-20; 8:45 am]

Billing code 3295-F0-P